DEPARTMENT OF ENERGY

Energy Information Administration

Agency Information Collection Proposed Extension

AGENCY: U.S. Energy Information Administration (EIA), Department of Energy (DOE).

ACTION: Notice and request for comments.

SUMMARY: EIA invites public comment on the proposed three-year extension, with changes, to the Petroleum Supply Reporting System (PSRS), as required by the Paperwork Reduction Act of 1995. The PSRS consists of six weekly surveys that make up the Weekly Petroleum Supply Reporting System (WPSRS), eight monthly surveys that make up the Monthly Petroleum Supply Reporting System (MPSRS), and one annual survey. EIA uses WPSRS surveys to collect data from a sample of operators on input, production, imports, and inventory levels of crude oil, hydrocarbon gas liquids, petroleum products, and biofuels. EIA uses MPSRS surveys to collect data from all in-scope operators on input, production, imports, biofuel feedstocks consumed, refinery capacity, biofuel plant production capacity, fuels consumed in plant operations, and annual storage capacity of crude oil, hydrocarbon gas liquids petroleum products, and biofuels. EIA uses annual Form EIA-820 to collect data on refinery capacity, refinery fuels and feedstocks consumed, and the quantity of crude oil received by method of transportation.

DATES: EIA must receive all comments on this proposed information collection no later than July 5, 2022. If you anticipate any difficulties in submitting your comments by the deadline, contact the person listed in the ADDRESSES section of this notice as soon as possible.

ADDRESSES: Submit comments electronically to PetroleumSupplyForms@eia.gov or mail comments to Michael Conner, Petroleum and Biofuel Supply Statistics Team, EI-23, U.S. Energy Information Administration, Forrestal Building, 1000 Independence Ave. SW, Washington, DC 20585.

FOR FURTHER INFORMATION CONTACT: If you need additional information, contact Michael Conner, U.S. Energy Information Administration, telephone (202) 586-1795, or by email at PetroleumSupplyForms@eia.gov. The forms and instructions are available on EIA's website at www.eia.gov/survey/.

SUPPLEMENTARY INFORMATION: Comments are invited on whether or not: (a) The proposed collection of information is necessary for the proper performance of agency functions, including whether the information will have a practical utility; (b) EIA's estimate of the burden of the proposed collection of information, including the validity of the methodology and assumptions used, is accurate; (c) EIA can improve the quality, utility, and clarity of the information it will collect; and (d) EIA can minimize the burden of the collection of information on respondents, such as automated collection techniques or other forms of information technology.

This information collection request contains:

(1) OMB No.: 1905-0165;

(2) Information Collection Request Title: Petroleum Supply Reporting System (PSRS);

(3) Type of Request: Three-year extension with changes;

(4) Purpose: The surveys included in the PSRS collect information, that is largely unavailable from other sources, on production, input, inventory levels, imports, inter-regional movements, and fuels and feedstocks consumed for plant operation, for crude oil, hydrocarbon gas liquids, petroleum products, and biofuels. PSRS surveys also collect storage capacities for crude oil, hydrocarbon gas liquids, petroleum products, and biofuels, refinery capacities, biofuel production capacities, and biofuel feedstocks consumed.

EIA requires data from PSRS surveys to meet requirements of energy data users for credible, reliable, and timely energy information. EIA uses PSRS survey data in statistical reports including, but not limited to, the Weekly Petroleum Status Report (WPSR), Petroleum Supply Monthly (PSM), and the Monthly Energy Review (MER). EIA uses PSRS survey data to support analysis and projection work with results reported in the Short Term Energy Outlook (STEO), Annual Energy Outlook (AEO), and other reports. EIA makes reports available at https://www.eia.gov/. EIA also uses PSRS data to complete monthly and annual reports of U.S. petroleum and biofuel supplies to the International Energy Agency to support U.S. participation as an IEA member county. In some cases, agencies outside of EIA publish data sourced from PSRS surveys in their own reports. For example Bioenergy Statistics reported by the U.S. Department of Agriculture.

Data from PSRS surveys provide data to inform policy and business decisions, the data promote efficient markets by providing transparency to petroleum and biofuel supplies. Use of PSRS data by academic researchers, educators, news media, and the general public promotes understanding of energy and its interaction with the economy and the environment.

(4a) Proposed Changes to Information Collection:

Form EIA-800 Weekly Refinery Report

• Change survey instructions to require reporting production of propane and propylene fractionated from still gas whether fractionation takes place at the refinery or at a facility downstream of the refinery. This change is needed to more completely account for the quantity of propane and propylene supplied, particularly as petrochemical feedstock. The current practice of reporting still gas shipped from refineries as still gas (not reported weekly on Form EIA-800) when the still gas will ultimately be fractionated into product components overstates supply of still gas (implying use as plant fuel) and understates supply of propane and propylene.

• Change the “Who Must Submit” part of survey instructions to include reporting by non-refinery operators of distillation, reforming, cracking, coking, hydrotreating, and similar processes. This change is needed in order for EIA to capture complete data on operations of process units commonly associated with oil refineries but operated at non-refinery facilities such as natural gas liquids fractionation plants.

• Discontinue collecting propane production, propane stocks, and total natural gas liquids (NGL) stocks at NGL fractionators. NGL fractionators that hold stocks will report on the new Form EIA-806 Weekly Natural Gas Liquids Report. Rename Form EIA-800 from Weekly Refinery and Fractionator Report to Weekly Refinery Report.

Form EIA-805 Weekly Bulk Terminal Report

• Add a product line for bulk terminal operators to report stocks of propane that meet at least the minimum specifications to be classified as consumer-grade propane (product code 626). The added product detail for consumer-grade propane will add transparency to propane supplies by showing separate stock levels of consumer-grade propane readily available for consumption and propane held as a component of product mixes where the propane requires processing through a fractionator or other unit before being consumed as propane. At present, EIA stock levels for propane do not differentiate between consumer-grade and higher grades of propane that are ready for use and propane contained as a component of a product mix.

Form EIA-806 Weekly Natural Gas Liquids Report

EIA proposes to add Form EIA-806 Weekly Natural Gas Liquids Report to the WPSRS. Form EIA-806 will be the weekly counterpart to Form EIA-816 Monthly Natural Gas Liquids Report. When implemented, EIA will use data from Form EIA-806 to report weekly total production of natural gas liquids (NGL), propane production from natural gas processing, and propane and NGL stocks held by operators of natural gas processing plants and NGL fractionators.

Current EIA weekly reporting practice is to use Form EIA-800 to collect production of propane from natural gas processing equal to barrels of propane fractionated from mixed NGL by operators of NGL fractionators. Operators of NGL fractionators also report ending stocks of total NGL and propane on Form EIA-800. EIA intends to replace current reporting by NGL fractionators on NGL fractionators on Form EIA-800 with reports submitted by operators of natural gas processing plants that produce and/or hold stocks, and operators of NGL fractionation plants that hold stocks.

With Form EIA-806, EIA proposes to collect the total quantity of natural gas liquids produced weekly by operators of natural gas processing plants. Weekly total NGL production is unavailable from current data collected on Form EIA-800. In addition, collecting weekly data from operators of natural gas processing plants allows EIA to improve consistency of weekly and monthly regional propane production by reporting weekly propane production in the region of the producing natural gas processing plant as is done in monthly data, rather than in the region where a fractionator operator separated propane from mixed NGL.

EIA proposes to collect total NGL stocks held by operators of natural gas processing plants and NGL fractionators. EIA will use plant-level NGL product composition data reported on Form EIA-816 to allocate total production and stocks reported weekly on Form EIA-806 to propane and other NGL products. EIA will allocate total NGL production and stocks reported weekly on Form EIA-806 to propane and other NGL current composition data, since this data is likely to be unavailable to plant operators in time to report weekly (i.e., weekly reports due to EIA by 5:00 p.m. eastern time on Monday with data for the week ended at 7:00 a.m. eastern time the previous Friday).

Form EIA-810 Monthly Refinery Report

• Change the “Who Must Submit” part of survey instructions to include reporting by non-refinery operators of distillation, reforming, cracking, coking, hydrotreating, and similar processes. This change is needed in order for EIA to capture complete data on operations of process units commonly associated with oil refineries but operated at non-refinery facilities such as natural gas liquids fractionation plants.

• Change the label for product code 207 from the current “Other renewable fuels and intermediate products” to “Other Biofuels and Biointermediates” not elsewhere specified or indicated. This change is to make the Form EIA-810 product label consistent with terminology used in EIA, other government agencies, and the biofuel industry.

• Change survey instructions to require reporting production of natural gas liquids (ethane, propane, normal butane, and isobutane) and refinery olefins (ethylene, propylene, normal butylene, isobutylene) on a product basis when the products are fractionated from still gas whether fractionation takes place at the refinery or at a facility downstream of the refinery. This change is needed to more completely account for quantities supplied of natural gas liquids and refinery olefins on a product basis, particularly for use as petrochemical feedstock. The current practice of reporting still gas shipped from refineries as still gas when the still gas will ultimately be fractionated into product components overstates supply of still gas (implying use as plant fuel) and understates supply of natural gas liquids and refinery olefin products.

Form EIA-815 Monthly Bulk Terminal Report

• Change the label for product code 207 from the current “Other renewable fuels and intermediate products” to “Other Biofuels and Biointermediates” not elsewhere specified or indicated. This change is to make the Form EIA-815 product label consistent with terminology used in EIA, other government agencies, and the biofuel industry.

• Add a product line for bulk terminal operators to report stocks of propane that meet at least the minimum specifications to be classified as consumer-grade propane (product code 626). The added product detail for consumer-grade propane will add transparency to propane supplies by showing separate stock levels of consumer-grade propane readily available for consumption and propane held as a component of product mixes where the propane requires processing through a fractionator or other unit before being consumed as propane. At present, EIA stock levels for propane do not differentiate between consumer-grade and higher grades of propane that are ready for use and propane contained as a component of a product mix.

Form EIA-816 Monthly Natural Gas Liquids Report

Add a separate product line for operators of natural gas processing plants to report plant condensate (product code 210) as a product separate from natural gasoline (product code 220). Plant condensate and natural gasoline are separate products of natural gas processing plants with different uses, but the current Form EIA-816 combines the two products under the natural gasoline label. Natural gasoline is normally used either for blending into gasoline, as petrochemical feedstock, or exported. Plant condensate is usually either blended into crude oil or exported. Reporting plant condensate as a product separate from natural gasoline will provide greater transparency to supplies of both NGL and crude oil. This change will also make reporting on Form EIA-816 consistent, in terms of the products reported, with Form EIA-64A Annual Report of the Origin of Natural Gas Liquids.

Form EIA-817 Monthly Tanker and Barge Movements Report

Change the label for product code 207 from the current “Other renewable fuels and intermediate products” to “Other Biofuels and Biointermediates” not elsewhere specified or indicated. This change is to make the Form EIA-817 product label consistent with terminology used in EIA, other government agencies, and the biofuel industry.

Form EIA-819 Monthly Report of Biofuels, Fuel Oxygenates, Isooctane, and Isooctene

• Change the label for product code 183 in part 8 of Form EIA-819 from the current “Other renewable fuels and intermediate products” to “Other Biofuels and Biointermediates” not elsewhere specified or indicated. This change is to make the Form EIA-819 product label consistent with terminology used in EIA, other government agencies, and the biofuel industry.

(5) Annual Estimated Number of Respondents: 4,744 total respondents;

EIA-800 consists of 100 respondents

EIA-802 consists of 46 respondents

EIA-803 consists of 90 respondents

EIA-804 consists of 102 respondents

EIA-805 consists of 764 respondents

EIA-806 consists of 200 respondents

EIA-809 consists of 147 respondents

EIA-810 consists of 133 respondents

EIA-812 consists of 104 respondents

EIA-813 consists of 235 respondents

EIA-814 consists of 294 respondents

EIA-815 consists of 1,484 respondents

EIA-816 consists of 489 respondents

EIA-817 consists of 36 respondents

EIA-819 consists of 287 respondents

EIA-820 consists of 133 respondents

Pretest methodology consists of 100 respondents

(6) Annual Estimated Number of Total Responses: 112,325 total responses;

(7) Annual Estimated Number of Burden Hours: 203,414 total annual burden hours;

(8) Annual Estimated Reporting and Recordkeeping Cost Burden: 203,414 annual hours * $83.38/hour = $16,960,659.

EIA estimates that respondents will have no additional costs associated with the surveys other than the burden hours and the maintenance of the information during the normal course of business.

Statutory Authority: 15 U.S.C. 772(b) and 42 U.S.C. 7101 et seq.

Signed in Washington, DC, on May 2nd, 2022.
Samson A. Adeshiyan,
Director, Office of Statistical Methods and Research, U.S. Energy Information Administration.

[FR Doc. 2022-09752 Filed 5-5-22; 8:45 am]

BILLING CODE 6450-01-P